DEPARTMENT OF JUSTICE

Notice of Lodging of a Modified Consent Decree Under the Clean Water Act and Toxic Substances Control Act

Notice is hereby given that on April 30, 2002, a proposed Modified Consent Decree and Judgment was lodged in United States, et al. v. City of Gary, Indiana, et al., Civil Action Nos. H 78-29 and H 86-540, in the United States District Court for the Northern District of Indiana (Hammond Division).

Under previous resolutions of these civil actions, including the most recent one in 1992, the United States and certain agencies of the State of Indiana secured relief under the Clean Water Act and the Toxic Substances Control Act to address violations of those laws as they relate the wastewater treatment plant that is owned and/or operated by the Defendants—City of Gary, Indiana, and the Gary Sanitary District (a component of the City government).

While prior settlement of these enforcement actions have secured parts of the compliance and clean up sought by the United States and the State, the federal and state governments concluded that the Defendants needed to make additional efforts to secure compliance with the prior settlement. Negotiations over the appropriate scope and nature of that work resulted in the Modified consent Decree, which is signed by the Defendants, the United States, and the State, and which is now lodged with the District Court.

Like the prior settlement of these actions, the Modified Consent Decree proposed here addresses two major areas: the wastewater treatment plant and the Ralston Street Lagoon, which is located near the treatment plant and contains contaminated sludges and other wastes.

The Modified Consent Decree preserves many substantive provisions of the prior settlement, including enforcement under the Decree of water pollution discharge limits that apply to the wastewater treatment plant.

The Modified Consent Decree imposes new requirements on the Defendants concerning the Ralston Street Lagoon, including (i) undertaking of a detailed assessment of competing methods for disposing of waste material in that lagoon, and (ii) completing the disposal method selected for the lagoon by the federal government, under criteria supplied by the Modified Consent Decree.

The Modified Consent Decree also requires the City and its Sanitary District to carry out some additional clean up of the contaminated sediment now found in the Grand Calumet River—which is the receiving water for the wastewater treatment plant. The Defendants also must pay a $150,000 civil penalty under the Decree. Finally, the Office of Special Administrator, created under the prior settlement of this matter as part of encouraging compliance with settlement by the City, remains in place under the Modified Consent Decree.

The Department of Justice will receive for a period of thirty (30) days from the date of this publication comments relating to the Modified Consent Decree. Comments should be addressed to the Assistant Attorney General, Environment and Natural Resources Division, P.O. Box 7611, U.S. Department of Justice, Washington, DC 20044-7611. The comments should refer to United States, et al. v. City of Gary, Indiana, et al., (N.D. Ind.), D.J. Ref. 90-5-1-1-2601B.

The Modified Consent Decree may be examined at the Office of the United States Attorney, Northern District of Indiana, at 5400 Federal Plaza, Suite 1500, Hammond, IN 46320. A copy of the Modified Consent Decree may also be obtained by mail from the Consent Decree Library, P.O. Box 7611, U.S. Department of Justice, Washington, DC 20044-7611, or by faxing a request to Tonia Fleetwood, fax no. (202) 514-0097, phone confirmation number (202) 514-1547. In requesting a copy, please enclose a check in the amount of $17.00 (25 cents per page reproduction cost) payable to the U.S. Treasury.

Thomas A. Mariani, Jr.,
Assistant Chief, Environmental Enforcement Section, Environment and Natural Resources Division.

[FR Doc. 02-15324 Filed 6-17-02; 8:45 am]

BILLING CODE 4410-15-M